SECURITIES AND EXCHANGE COMMISSION

Sunshine Act Meeting; Cancellation

FEDERAL REGISTER CITATION OF PREVIOUS ANNOUNCEMENT: 83 FR 62396, 3 Dec. 2018.

PREVIOUSLY ANNOUNCED TIME AND DATE OF THE MEETING: Wednesday, December 5, 2018 at 10:00 a.m.

CHANGES IN THE MEETING: The Open Meeting scheduled for Wednesday, December 5, 2018 at 10:00 a.m., has been cancelled.

CONTACT PERSON FOR MORE INFORMATION: For further information, please contact Brent J. Fields of the Office of the Secretary at (202) 551-5400.

Dated: December 4, 2018.
Brent J. Fields,
Secretary.

[FR Doc. 2018-26656 Filed 12-4-18; 4:15 pm]

BILLING CODE 8011-01-P